GENERAL SERVICES ADMINISTRATION

41 CFR Chapter 301

[FTR Amendment 111]

RIN 3090-AH75

Federal Travel Regulation; Maximum Per Diem Rates for Massachusetts, Michigan, Missouri, New Mexico, North Carolina, and Pennsylvania

AGENCY: Office of Governmentwide Policy, General Services Administration (GSA).

ACTION: Final rule.

SUMMARY: To improve the ability of the per diem rates to meet the lodging demands of Federal travelers to high cost travel locations, the General Services Administration (GSA) has integrated the contracting mechanism of the new Federal Premier Lodging Program (FPLP) into the per diem rate-setting process. An analysis of FPLP contracting actions and the lodging rate survey data reveals that the maximum per diem rate for the State of Massachusetts, city of Boston, including Suffolk County, and city of Cambridge, including Middlesex Counties (except for the city of Lowell); State of Michigan, city of Detroit, including Wayne County; State of Missouri, city of St. Louis, including St. Louis and St. Charles Counties; State of New Mexico, city of Albuquerque, including Bernalillo County; State of North Carolina, city of Charlotte, including Mecklenburg County; State of Pennsylvania, city of Pittsburgh, including Allegheny County, should be adjusted to provide for the reimbursement of Federal employees' lodging expenses covered by the per diem. This final rule amends the final rule published in the Federal Register on August 30, 2002 and amended on November 18, 2002 by adjusting the maximum lodging amounts in the prescribed areas.

DATES: This final rule is effective December 15, 2002, and applies to travel performed on or after that date.

FOR FURTHER INFORMATION CONTACT: The Regulatory Secretariat, Room 4035, GS Building, Washington, DC, 20405, (202) 208-7312, for information pertaining to status or publication schedules. For clarification of content, contact Joddy P. Garner, Office of Governmentwide Policy, Travel Management Policy, at (202) 501-4857. Please cite FTR Amendment 111.

SUPPLEMENTARY INFORMATION:

A. Background

In the past, properties in high cost travel areas have been under no obligation to provide lodging to Federal travelers at the prescribed per diem rate. Thus, the General Services Administration (GSA) established the Federal Premier Lodging Program (FPLP) to contract directly with properties in high cost travel markets to make available a set number of rooms to Federal travelers at contract rates. FPLP contract results along with the lodging survey data are integrated together to determine reasonable per diem rates that more accurately reflect lodging costs in these areas. In addition, the FPLP will enhance the Government's ability to better meet its overall room night demand, and allow travelers to find lodging close to where they need to conduct business. After an analysis of this additional data, the maximum lodging amounts published in the Federal Register at 67 FR 56160, August 30, 2002 and amended at 67 FR 69634, November 18, 2002 are being changed in Boston and Cambridge, Massachusetts; Detroit, Michigan; St. Louis, Missouri; Charlotte, North Carolina; Albuquerque, New Mexico; and Pittsburgh, Pennsylvania.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Chapter 301

Government employees, Travel and transportation expenses.

Dated: December 16, 2002.
Stephen A. Perry,
Administrator of General Services.

For the reasons set forth in the preamble, under 5 U.S.C. 5701-5709, GSA amends 41 CFR chapter 301 as set forth below:

CHAPTER 301—TEMPORARY DUTY (TDY) TRAVEL ALLOWANCES

1. Amend the table in Appendix A to chapter 301 as follows:

a. Under the State of Massachusetts, revise the entry for the city of Boston, including Suffolk County.

b. Under the State of Massachusetts, revise the entry for city of Cambridge, including Middlesex County (except Lowell).

c. Under the State of Michigan, city of Detroit, including Wayne County, amend the maximum lodging amount by removing “109” and adding “108” in its place; and amend the maximum per diem rate by removing “159” and adding “158” in its place.

d. Under the State of Missouri, city of St. Louis, including St. Louis and St. Charles Counties, amend the maximum lodging amount by removing “90” and adding “102” in its place; and amend the maximum per diem rate by removing “140” and adding “152” in its place.

e. Under the State of New Mexico, city of Albuquerque, including Bernalillo County, amend the maximum lodging amount by removing “65” and adding “72” in its place; and amend the maximum per diem rate by removing “107” and adding “114” in its place.

f. Under the State of North Carolina, city of Charlotte, including Mecklenburg County, amend the maximum lodging amount by removing “71” and adding “81” in its place; and amend the maximum per diem rate by removing “113” and adding “123” in its place.

g. Under the State of Pennsylvania, city of Pittsburgh, including Allegheny County, amend the maximum lodging amount by removing “79” and adding “90” in its place; and amend the maximum per diem rate by removing “125” and adding “136” in its place.

The revised pages containing the amendments to the table set forth above read as follows:

Appendix A to Chapter 301—Prescribed Maximum Per Diem Rates for CONUS

* * * * *

BILLING CODE 6820-24-P

* * * * *

[FR Doc. 02-32477 Filed 12-31-02; 8:45 am]

BILLING CODE 6820-24-C